DEPARTMENT OF ENERGY

Federal Energy Regulatory Commission

Combined Notice of Filings

Take notice that the Commission has received the following Natural Gas Pipeline Rate and Refund Report filings:

Filings Instituting Proceedings

Docket Numbers: CP13-36-000.

Applicants: Transcontinental Gas Pipe Line Company, LLC.

Description: Transcontinental Gas Pipe Line Company, LLC submits an application to amend the certificate granted by the Commission for the Rockaway Delivery Lateral Project.

Filed Date: 3/10/15.

Accession Number: 20150310-5208.

Comments Due: 5 p.m. ET 3/20/15.

Docket Numbers: RP15-630-000.

Applicants: Garden Banks Gas Pipeline, LLC.

Description: Compliance filing per 154.203: Change Info Postings URL to be effective 4/10/2015.

Filed Date: 3/11/15.

Accession Number: 20150311-5084.

Comments Due: 5 p.m. ET 3/23/15.

Docket Numbers: RP15-631-000.

Applicants: Mississippi Canyon Gas Pipeline, LLC.

Description: § 4(d) rate filing per 154.204: Change Info Postings URL to be effective 4/10/2015.

Filed Date: 3/11/15.

Accession Number: 20150311-5085.

Comments Due: 5 p.m. ET 3/23/15.

Docket Numbers: RP15-632-000.

Applicants: Nautilus Pipeline Company, LLC.

Description: § 4(d) rate filing per 154.204: Change Informational Postings Web site URL to be effective 4/10/2015.

Filed Date: 3/11/15.

Accession Number: 20150311-5087.

Comments Due: 5 p.m. ET 3/23/15.

Docket Numbers: RP15-633-000.

Applicants: Alliance Pipeline L.P.

Description: Compliance filing per 154.203: System Map URL to be effective 4/11/2015.

Filed Date: 3/11/15.

Accession Number: 20150311-5280.

Comments Due: 5 p.m. ET 3/23/15.

Docket Numbers: RP15-634-000.

Applicants: Equitrans, L.P.

Description: Compliance filing per 154.203: Order No. 801 Map Compliance Filing to be effective 4/1/2015.

Filed Date: 3/11/15.

Accession Number: 20150311-5293.

Comments Due: 5 p.m. ET 3/23/15.

Docket Numbers: RP15-635-000.

Applicants: Rager Mountain Storage Company LLC.

Description: Compliance filing per 154.203: Order No. 801 Map Compliance Filing to be effective 4/1/2015.

Filed Date: 3/11/15.

Accession Number: 20150311-5317.

Comments Due: 5 p.m. ET 3/23/15.

Docket Numbers: RP15-636-000.

Applicants: Cheniere Creole Trail Pipeline, L.P.

Description: Compliance filing per 154.203: Service Agreement Compliance Filing to be effective 5/1/2015.

Filed Date: 3/11/15.

Accession Number: 20150311-5350.

Comments Due: 5 p.m. ET 3/23/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2015.
Nathaniel J. Davis, Sr.,
Deputy Secretary.

[FR Doc. 2015-06404 Filed 3-19-15; 8:45 am]

BILLING CODE 6717-01-P